DEPARTMENT OF TRANSPORTATION

Office of the Secretary

Notice of Applications for Certificates of Public Convenience and Necessity and Foreign Air Carrier Permits Filed Under Subpart B (formerly Subpart Q) During the Week Ending February 7, 2009

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2009-0033.

Date Filed: February 2, 2009.

Due Date for Answers, Conforming Applications, or Motion to Modify Scope: February 23, 2009.

Description: Application of Aviation Starlink Inc. d/b/a Starlink Aviation requesting an exemption and a foreign air carrier permit to engage in scheduled foreign air transportation between Canada and the United States.

Docket Number: DOT-OST-2006-25616.

Date Filed: February 6, 2009.

Due Date for Answers, Conforming Applications, or Motion to Modify Scope: February 27, 2009.

Description: Application of Elysair SAS d/b/a Elysair (“Elysair”) amending its foreign air carrier permit to enable it to engage in: (i) Foreign scheduled and charter air transportation of persons, property and mail from any point or points behind any Member State of the European Union via any point or points in any Member State and via intermediate points to any point or points in the United States and beyond; (ii) foreign scheduled and charter air transportation of persons, property and mail between any point or points in the United States and any point or points in any member of the European Common Aviation Area; (iii) foreign scheduled and charter cargo air transportation between any point or points in the United States and any other point or points; (iv) other charter pursuant to the prior approval requirements; and (v) transportation authorized by any additional route rights made available to European Community carriers in the future. Elysair also requests: (1) Exemption authority to the extent necessary to enable it to hold out and provide the service described above pending issuance of a foreign air carrier permit; (2) a statement of authorization to the extent necessary to display the BA* designator code of British Airways Plc on flights operated by Elysair; (3) authority to the extent necessary to hold out and provide the service described above under the “OpenSkies” trade name and “EC” designator code; and such additional or other relief as the Department may deem necessary or appropriate.

Renee V. Wright,
Program Manager, Docket Operations, Federal Register Liaison.

[FR Doc. E9-3507 Filed 2-18-09; 8:45 am]

BILLING CODE 4910-9X-P